DEPARTMENT OF HEALTH AND HUMAN SERVICES

Food and Drug Administration

[Docket No. FDA-2008-N-0038]

Endocrinologic and Metabolic Drugs Advisory Committee; Notice of Meeting; Correction

AGENCY: Food and Drug Administration, HHS.

ACTION: Notice; correction.

SUMMARY: The Food and Drug Administration is correcting a notice that appeared in the Federal Register of September 24, 2008 (73 FR 55114). The document announced a forthcoming meeting of a public advisory committee of the Food and Drug Administration (FDA). A portion of the meeting will be closed to the public. This document corrects the error.

FOR FURTHER INFORMATION CONTACT: Theresa Green, Office of the Commissioner, Food and Drug Administration, 5600 Fishers Lane, Rockville, MD 20857, 301-827-1220.

SUPPLEMENTARY INFORMATION: In FR Doc. E8-22437, appearing on page 55114 in the Federal Register of Wednesday, September 24, 2008, the following correction is made:

1. On page 55114, in the third column, in the Procedure section, the fourth sentence is corrected to read “Oral presentations from the public will be scheduled between approximately 2 p.m. and 3 p.m.”

There are no other changes to the document.

Dated: October 1, 2008.
Randall W. Lutter,
Deputy Commissioner for Policy.

[FR Doc. E8-23718 Filed 10-6-08; 8:45 am]

BILLING CODE 4160-01-S